DEPARTMENT OF TRANSPORTATION

Federal Aviation Administration

14 CFR Part 97

[Docket No. 31259; Amdt. No. 3858]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective July 5, 2019. The compliance date for each SIAP, associated Takeoff Minimums, and ODP is specified in the amendatory provisions.

The incorporation by reference of certain publications listed in the regulations is approved by the Director of the Federal Register as of July 5, 2019.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73125. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on June 14, 2019.
Rick Domingo,
Executive Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * EFFECTIVE UPON PUBLICATION

AIRAC date | State | City | Airport | FDC No. | FDC date | Subject
18-Jul-19 | AR | Warren | Warren Muni | 9/0506 | 6/7/19 | RNAV (GPS) RWY 21, Orig-A.
18-Jul-19 | AR | Warren | Warren Muni | 9/0507 | 6/7/19 | RNAV (GPS) RWY 3, Orig-A.
18-Jul-19 | CA | Merced | Merced Rgnl/Macready Field | 9/0516 | 6/7/19 | ILS OR LOC RWY 30, Amdt 14E.
18-Jul-19 | MO | Ava | Ava Bill Martin Memorial | 9/0587 | 6/7/19 | RNAV (GPS) RWY 13, Orig-A.
18-Jul-19 | IA | Ames | Ames Muni | 9/0612 | 6/7/19 | RNAV (GPS) RWY 19, Amdt 1A.
18-Jul-19 | KY | Henderson | Henderson City-County | 9/0614 | 6/7/19 | RNAV (GPS) RWY 9, Amdt 1.
18-Jul-19 | ID | Gooding | Gooding Muni | 9/0615 | 6/7/19 | RNAV (GPS) RWY 25, Orig-A.
18-Jul-19 | MI | Bad Axe | Huron County Memorial | 9/0738 | 6/7/19 | RNAV (GPS) RWY 4, Orig-A.
18-Jul-19 | MI | Bad Axe | Huron County Memorial | 9/0743 | 6/7/19 | RNAV (GPS) RWY 17, Orig-A.
18-Jul-19 | TN | Millington | Millington-Memphis | 9/1794 | 6/10/19 | ILS OR LOC RWY 22, Amdt 5.
18-Jul-19 | TN | Millington | Millington-Memphis | 9/1795 | 6/10/19 | RNAV (GPS) RWY 22, Amdt 2.
18-Jul-19 | TN | Millington | Millington-Memphis | 9/1796 | 6/10/19 | VOR OR TACAN RWY 22, Amdt 3.
18-Jul-19 | MD | Easton | Easton/Newnam Field | 9/1859 | 6/10/19 | RNAV (GPS) RWY 22, Amdt 1B.
18-Jul-19 | MI | Alma | Gratiot Community | 9/1868 | 6/10/19 | RNAV (GPS) RWY 27, Amdt 1A.
18-Jul-19 | MO | Dexter | Dexter Muni | 9/5019 | 6/4/19 | RNAV (GPS) RWY 18, Amdt 1.
18-Jul-19 | MO | Dexter | Dexter Muni | 9/5020 | 6/4/19 | RNAV (GPS) RWY 36, Amdt 1A.
18-Jul-19 | MI | Boyne Falls | Boyne Mountain | 9/5021 | 6/6/19 | RNAV (GPS) RWY 35, Orig-A.
18-Jul-19 | MN | Tower | Tower Muni | 9/5022 | 6/4/19 | RNAV (GPS) RWY 26, Orig-A.
18-Jul-19 | MO | Ava | Ava Bill Martin Memorial | 9/5026 | 6/5/19 | RNAV (GPS) RWY 31, Orig-B.
18-Jul-19 | MN | Tower | Tower Muni | 9/5027 | 6/4/19 | RNAV (GPS) RWY 8, Orig.
18-Jul-19 | MI | Ann Arbor | Ann Arbor Muni | 9/5030 | 6/6/19 | RNAV (GPS) RWY 6, Amdt 2C.
18-Jul-19 | MI | Ann Arbor | Ann Arbor Muni | 9/5031 | 6/6/19 | RNAV (GPS) RWY 24, Amdt 2D.
18-Jul-19 | LA | Eunice | Eunice | 9/5037 | 6/6/19 | RNAV (GPS) RWY 34, Orig-A.
18-Jul-19 | MO | Branson | Branson | 9/5039 | 6/5/19 | RNAV (GPS) RWY 14, Orig-A.
18-Jul-19 | MI | Alma | Gratiot Community | 9/5040 | 6/6/19 | RNAV (GPS) RWY 9, Amdt 1A.
18-Jul-19 | MO | Kaiser/Lake Ozark | Lee C Fine Memorial | 9/5041 | 6/5/19 | RNAV (GPS) RWY 4, Amdt 1A.
18-Jul-19 | MI | Alma | Gratiot Community | 9/5042 | 6/6/19 | RNAV (GPS) RWY 18, Orig.
18-Jul-19 | MI | Linden | Prices | 9/5047 | 6/5/19 | RNAV (GPS) RWY 9, Amdt 1A.
18-Jul-19 | MI | Linden | Prices | 9/5049 | 6/5/19 | RNAV (GPS) RWY 27, Amdt 1A.
18-Jul-19 | MI | Adrian | Lenawee County | 9/5051 | 6/5/19 | RNAV (GPS) RWY 5, Amdt 1A.
18-Jul-19 | MO | Butler | Butler Memorial | 9/5054 | 6/5/19 | RNAV (GPS) RWY 18, Orig-A.
18-Jul-19 | MO | Butler | Butler Memorial | 9/5055 | 6/5/19 | RNAV (GPS) RWY 36, Orig-A.
18-Jul-19 | ME | Wiscasset | Wiscasset | 9/5061 | 6/4/19 | RNAV (GPS) RWY 7, Orig-A.
18-Jul-19 | ME | Wiscasset | Wiscasset | 9/5063 | 6/4/19 | RNAV (GPS) RWY 25, Orig-A.
18-Jul-19 | ME | Millinocket | Millinocket Muni | 9/5064 | 6/4/19 | RNAV (GPS) RWY 11, Orig-A.
18-Jul-19 | AL | Centreville | Bibb County | 9/5065 | 6/4/19 | RNAV (GPS) RWY 10, Orig.
18-Jul-19 | AL | Wetumpka | Wetumpka Muni | 9/5067 | 6/4/19 | RNAV (GPS) RWY 9, Orig-B.
18-Jul-19 | AL | Prattville | Prattville-Grouby Field | 9/5068 | 6/4/19 | RNAV (GPS) RWY 9, Amdt 2E.
18-Jul-19 | AL | Brewton | Brewton Muni | 9/5070 | 6/4/19 | RNAV (GPS) RWY 6, Orig-A.
18-Jul-19 | AL | Brewton | Brewton Muni | 9/5072 | 6/4/19 | RNAV (GPS) RWY 12, Orig.
18-Jul-19 | AL | Brewton | Brewton Muni | 9/5073 | 6/4/19 | RNAV (GPS) RWY 30, Orig.
18-Jul-19 | AL | Brewton | Brewton Muni | 9/5074 | 6/4/19 | RNAV (GPS) RWY 24, Orig-A.
18-Jul-19 | KY | Elizabethtown | Addington Field | 9/5075 | 6/3/19 | RNAV (GPS) RWY 23, Orig.
18-Jul-19 | MN | Willmar | Willmar Muni-John L Rice Field | 9/5076 | 6/4/19 | RNAV (GPS) RWY 31, Amdt 1B.
18-Jul-19 | GA | Quitman | Quitman Brooks County | 9/5077 | 6/4/19 | RNAV (GPS) RWY 10, Amdt 1B.
18-Jul-19 | GA | Quitman | Quitman Brooks County | 9/5078 | 6/4/19 | RNAV (GPS) RWY 28, Amdt 1B.
18-Jul-19 | KY | Flemingsburg | Fleming-Mason | 9/5079 | 6/3/19 | RNAV (GPS) RWY 7, Orig-A.
18-Jul-19 | LA | Bunkie | Bunkie Muni | 9/5081 | 6/6/19 | RNAV (GPS) RWY 18, Orig.
18-Jul-19 | MN | Alexandria | Chandler Field | 9/5082 | 6/4/19 | RNAV (GPS) RWY 22, Orig-A.
18-Jul-19 | LA | Winnfield | David G Joyce | 9/5083 | 6/5/19 | RNAV (GPS) RWY 27, Orig-A.
18-Jul-19 | MD | Gaithersburg | Montgomery County Airpark | 9/5084 | 6/4/19 | RNAV (GPS) RWY 14, Amdt 3B.
18-Jul-19 | MA | Westfield/Springfield | Westfield-Barnes Rgnl | 9/5085 | 6/4/19 | RNAV (GPS) RWY 2, Orig-C.
18-Jul-19 | LA | Many | Hart | 9/5086 | 6/6/19 | RNAV (GPS) RWY 30, Orig-A.
18-Jul-19 | GA | Greensboro | Greene County Rgnl | 9/5087 | 6/4/19 | RNAV (GPS) RWY 7, Amdt 1D.
18-Jul-19 | IA | Ames | Ames Muni | 9/5088 | 6/4/19 | RNAV (GPS) RWY 13, Amdt 1A.
18-Jul-19 | IA | Ames | Ames Muni | 9/5092 | 6/4/19 | RNAV (GPS) RWY 31, Amdt 1A.
18-Jul-19 | CA | Santa Ynez | Santa Ynez | 9/5094 | 6/3/19 | GPS RWY 8, Orig-B.
18-Jul-19 | GA | Adel | Cook County | 9/5097 | 6/5/19 | RNAV (GPS) RWY 23, Amdt 1A.
18-Jul-19 | GA | Adel | Cook County | 9/5098 | 6/5/19 | RNAV (GPS) RWY 5, Amdt 1A.
18-Jul-19 | ID | Caldwell | Caldwell Industrial | 9/5100 | 6/4/19 | RNAV (GPS) RWY 12, Amdt 1A.
18-Jul-19 | ID | Caldwell | Caldwell Industrial | 9/5105 | 6/4/19 | RNAV (GPS) RWY 30, Amdt 1A.
18-Jul-19 | CA | California City | California City Muni | 9/5109 | 6/3/19 | RNAV (GPS) RWY 6, Orig-A.
18-Jul-19 | CA | Los Banos | Los Banos Muni | 9/5111 | 6/3/19 | RNAV (GPS) RWY 14, Orig-C.
18-Jul-19 | GA | Canon | Franklin County | 9/5113 | 6/5/19 | RNAV (GPS) RWY 26, Orig-A.
18-Jul-19 | CA | Los Banos | Los Banos Muni | 9/5114 | 6/3/19 | RNAV (GPS) RWY 32, Amdt 1.
18-Jul-19 | CA | Half Moon Bay | Half Moon Bay | 9/5119 | 6/3/19 | RNAV (GPS) RWY 12, Amdt 1.
18-Jul-19 | WA | Burlington/Mount Vernon | Skagit Rgnl | 9/5120 | 6/3/19 | RNAV (GPS) RWY 29, Amdt 2.
18-Jul-19 | CA | Half Moon Bay | Half Moon Bay | 9/5121 | 6/3/19 | RNAV (GPS) RWY 30, Amdt 1.
18-Jul-19 | MN | Benson | Benson Muni | 9/5122 | 6/4/19 | RNAV (GPS) RWY 14, Amdt 1.
18-Jul-19 | MN | Benson | Benson Muni | 9/5123 | 6/4/19 | RNAV (GPS) RWY 32, Amdt 1.
18-Jul-19 | IL | Litchfield | Litchfield Muni | 9/5124 | 5/30/19 | RNAV (GPS) RWY 36, Orig-B.
18-Jul-19 | ME | Auburn/Lewiston | Auburn/Lewiston Muni | 9/5125 | 6/5/19 | RNAV (GPS) RWY 22, Amdt 1B.
18-Jul-19 | MO | Potosi | Washington County | 9/5126 | 6/6/19 | RNAV (GPS) RWY 2, Amdt 2B.
18-Jul-19 | CA | Fullerton | Fullerton Muni | 9/5127 | 6/3/19 | RNAV (GPS) RWY 24, Orig-B.
18-Jul-19 | MN | Albert Lea | Albert Lea Muni | 9/5128 | 6/4/19 | RNAV (GPS) RWY 17, Amdt 2A.
18-Jul-19 | MN | Albert Lea | Albert Lea Muni | 9/5129 | 6/4/19 | RNAV (GPS) RWY 35, Amdt 1B.
18-Jul-19 | KY | Hopkinsville | Hopkinsville-Christian County | 9/5130 | 6/3/19 | RNAV (GPS) RWY 8, Orig-A.
18-Jul-19 | IL | Litchfield | Litchfield Muni | 9/5132 | 5/30/19 | RNAV (GPS) RWY 27, Orig-A.
18-Jul-19 | IL | Litchfield | Litchfield Muni | 9/5133 | 5/30/19 | RNAV (GPS) RWY 9, Orig-A.
18-Jul-19 | IL | Litchfield | Litchfield Muni | 9/5134 | 5/30/19 | RNAV (GPS) RWY 18, Orig-B.
18-Jul-19 | KY | Henderson | Henderson City-County | 9/5136 | 6/5/19 | RNAV (GPS) RWY 27, Amdt 1.
18-Jul-19 | MN | Pinecreek | Piney Pinecreek Border | 9/5137 | 6/4/19 | RNAV (GPS) RWY 15, Orig-A.
18-Jul-19 | MN | Pinecreek | Piney Pinecreek Border | 9/5138 | 6/4/19 | RNAV (GPS) RWY 33, Orig-A.
18-Jul-19 | KY | Danville | Stuart Powell Field | 9/5139 | 6/3/19 | RNAV (GPS) RWY 12, Orig-A.
18-Jul-19 | AZ | Mesa | Falcon Fld | 9/5140 | 6/3/19 | RNAV (GPS) RWY 4L, Amdt 1B.
18-Jul-19 | MA | Nantucket | Nantucket Memorial | 9/5141 | 6/4/19 | RNAV (GPS) RWY 15, Orig-A.
18-Jul-19 | AR | Corning | Corning Muni | 9/5145 | 5/30/19 | RNAV (GPS) RWY 36, Orig-C.
18-Jul-19 | MI | Sault Ste Marie | Sault Ste Marie Muni/Sanderson Field | 9/5146 | 6/5/19 | RNAV (GPS) RWY 14, Orig-B.
18-Jul-19 | ID | Gooding | Gooding Muni | 9/5148 | 6/4/19 | RNAV (GPS) RWY 7, Orig.
18-Jul-19 | AR | Corning | Corning Muni | 9/5149 | 5/30/19 | RNAV (GPS) RWY 18, Orig-B.
18-Jul-19 | CA | Merced | Merced Rgnl/Macready Field | 9/5151 | 6/3/19 | RNAV (GPS) RWY 12, Orig-B.
18-Jul-19 | MN | Cambridge | Cambridge Muni | 9/5152 | 6/4/19 | RNAV (GPS) RWY 16, Orig-A.
18-Jul-19 | MN | Cambridge | Cambridge Muni | 9/5153 | 6/4/19 | RNAV (GPS) RWY 34, Orig-A.
18-Jul-19 | CA | Jackson | Westover Field Amador County | 9/5154 | 6/3/19 | GPS RWY 1, Orig-B.
18-Jul-19 | CA | Bakersfield | Meadows Field | 9/5155 | 6/3/19 | RNAV (GPS) RWY 12L, Amdt 1B.
18-Jul-19 | CA | Daggett | Barstow-Daggett | 9/5158 | 6/3/19 | RNAV (GPS) RWY 22, Amdt 2B.
18-Jul-19 | CA | Eureka | Murray Field | 9/5159 | 6/5/19 | RNAV (GPS) RWY 12, Orig-A.
18-Jul-19 | AZ | Glendale | Glendale Muni | 9/5164 | 6/3/19 | RNAV (GPS) RWY 1, Orig-C.
18-Jul-19 | AZ | Glendale | Glendale Muni | 9/5165 | 6/3/19 | RNAV (GPS) RWY 19, Amdt 2A.
18-Jul-19 | FL | Cross City | Cross City | 9/5167 | 5/30/19 | RNAV (GPS) RWY 31, Amdt 1A.
18-Jul-19 | FL | Wauchula | Wauchula Muni | 9/5168 | 5/30/19 | RNAV (GPS) RWY 36, Amdt 1C.
18-Jul-19 | FL | Wauchula | Wauchula Muni | 9/5171 | 5/30/19 | RNAV (GPS) RWY 18, Amdt 1C.
18-Jul-19 | UT | Salt Lake City | Salt Lake City Intl | 9/5172 | 6/4/19 | ILS OR LOC RWY 34R, ILS RWY 34R (SA CAT I), ILS RWY 34R (CAT II AND III), AMDT 4C.
18-Jul-19 | FL | Brooksville | Brooksville-Tampa Bay Rgnl | 9/5173 | 5/30/19 | RNAV (GPS) RWY 21, Amdt 1D.
18-Jul-19 | FL | Brooksville | Brooksville-Tampa Bay Rgnl | 9/5174 | 5/30/19 | RNAV (GPS) RWY 27, Amdt 1D.
18-Jul-19 | FL | Brooksville | Brooksville-Tampa Bay Rgnl | 9/5175 | 5/30/19 | RNAV (GPS) RWY 9, Amdt 1D.
18-Jul-19 | FL | Brooksville | Brooksville-Tampa Bay Rgnl | 9/5176 | 5/30/19 | RNAV (GPS) RWY 3, Amdt 1D.
18-Jul-19 | FL | Naples | Naples Muni | 9/5193 | 6/4/19 | RNAV (GPS) RWY 5, Amdt 2.
18-Jul-19 | IN | Columbus | Columbus Muni | 9/5200 | 5/30/19 | RNAV (GPS) RWY 32, Orig-A.
18-Jul-19 | IN | Columbus | Columbus Muni | 9/5202 | 5/30/19 | RNAV (GPS) RWY 5, Orig-A.
18-Jul-19 | IN | Columbus | Columbus Muni | 9/5203 | 5/30/19 | RNAV (GPS) RWY 23, Orig-B.
18-Jul-19 | IL | Casey | Casey Muni | 9/5204 | 5/30/19 | RNAV (GPS) RWY 22, Orig.
18-Jul-19 | IL | Casey | Casey Muni | 9/5205 | 5/30/19 | RNAV (GPS) RWY 4, Orig-A.
18-Jul-19 | MN | Baudette | Baudette Intl | 9/5206 | 6/4/19 | RNAV (GPS) RWY 12, Amdt 1.
18-Jul-19 | IN | Bedford | Virgil I Grissom Muni | 9/5209 | 5/30/19 | RNAV (GPS) RWY 13, Orig-A.
18-Jul-19 | IL | Chicago/Lake In The Hills | Lake In The Hills | 9/5211 | 5/30/19 | RNAV (GPS) RWY 8, Orig-A.
18-Jul-19 | IL | Chicago/Lake In The Hills | Lake In The Hills | 9/5212 | 5/30/19 | RNAV (GPS) RWY 26, Orig-A.
18-Jul-19 | IN | Angola | Tri-State Steuben County | 9/5213 | 5/30/19 | RNAV (GPS) RWY 5, Orig-D.
18-Jul-19 | IN | Angola | Tri-State Steuben County | 9/5214 | 5/30/19 | RNAV (GPS) RWY 23, Orig-D.
18-Jul-19 | DC | Washington | Washington Dulles Intl | 9/5216 | 5/30/19 | ILS OR LOC RWY 19L, Amdt 15C.
18-Jul-19 | IN | Bloomington | Monroe County | 9/5230 | 5/30/19 | RNAV (GPS) RWY 17, Amdt 1B.
18-Jul-19 | IN | Bloomington | Monroe County | 9/5231 | 5/30/19 | RNAV (GPS) RWY 24, Orig-B.
18-Jul-19 | IN | Bloomington | Monroe County | 9/5232 | 5/30/19 | RNAV (GPS) RWY 6, Orig-C.
18-Jul-19 | FL | Crestview | Bob Sikes | 9/5259 | 5/30/19 | RNAV (GPS) RWY 35, Amdt 1C.
18-Jul-19 | MO | Chillicothe | Chillicothe Muni | 9/5285 | 6/5/19 | RNAV (GPS) RWY 14, Orig-A.
18-Jul-19 | MO | Chillicothe | Chillicothe Muni | 9/5286 | 6/5/19 | RNAV (GPS) RWY 32, Amdt 1A.
18-Jul-19 | MD | Ocean City | Ocean City Muni | 9/5287 | 6/5/19 | RNAV (GPS) RWY 32, Orig-C.
18-Jul-19 | CO | Lamar | Lamar Muni | 9/5292 | 6/3/19 | RNAV (GPS) RWY 8, Amdt 1A.
18-Jul-19 | CO | Lamar | Lamar Muni | 9/5293 | 6/3/19 | RNAV (GPS) RWY 18, Amdt 1B.
18-Jul-19 | CO | Lamar | Lamar Muni | 9/5294 | 6/3/19 | RNAV (GPS) RWY 36, Amdt 1A.
18-Jul-19 | CO | Lamar | Lamar Muni | 9/5295 | 6/3/19 | RNAV (GPS) RWY 26, Orig-B.
18-Jul-19 | MD | Frederick | Frederick Muni | 9/5296 | 6/5/19 | RNAV (GPS) RWY 5, Orig-D.
18-Jul-19 | GA | Montezuma | Dr C P Savage Sr. | 9/5298 | 6/4/19 | RNAV (GPS) RWY 36, Orig-B.
18-Jul-19 | AR | Carlisle | Carlisle Muni | 9/5358 | 6/3/19 | RNAV (GPS) RWY 27, Orig-A.
18-Jul-19 | AR | Carlisle | Carlisle Muni | 9/5359 | 6/3/19 | RNAV (GPS) RWY 9, Amdt 1A.
18-Jul-19 | CO | Denver | Front Range | 9/5360 | 6/3/19 | ILS OR LOC RWY 35, Amdt 2.
18-Jul-19 | CO | Fort Collins/Loveland | Northern Colorado Rgnl | 9/5382 | 6/3/19 | RNAV (GPS) RWY 15, Orig-A.
18-Jul-19 | WA | Ephrata | Ephrata Muni | 9/5386 | 6/3/19 | RNAV (GPS) RWY 21, Orig-A.
18-Jul-19 | WA | Pullman/Moscow | Pullman/Moscow Rgnl | 9/5404 | 6/3/19 | RNAV (GPS) RWY 24, Amdt 1C.
18-Jul-19 | CO | Cortez | Cortez Muni | 9/5413 | 6/3/19 | RNAV (GPS) Z RWY 21, Orig-A.
18-Jul-19 | CO | Cortez | Cortez Muni | 9/5414 | 6/3/19 | RNAV (GPS) RWY 3, Orig-A.
18-Jul-19 | CO | Meeker | Meeker Coulter Fld | 9/5415 | 6/3/19 | RNAV (GPS) RWY 3, Amdt 3C.
18-Jul-19 | CO | Gunnison | Gunnison-Crested Butte Rgnl | 9/5419 | 6/3/19 | ILS OR LOC RWY 6, Amdt 5.
18-Jul-19 | MI | Bad Axe | Huron County Memorial | 9/5426 | 6/3/19 | RNAV (GPS) RWY 22, Orig-B.
18-Jul-19 | MI | Bad Axe | Huron County Memorial | 9/5428 | 6/3/19 | RNAV (GPS) RWY 35, Orig-B.
18-Jul-19 | CO | Holyoke | Holyoke | 9/5430 | 6/3/19 | RNAV (GPS) RWY 32, Orig-D.
18-Jul-19 | GA | Cedartown | Polk County Airport-Cornelius Moore Field | 9/5432 | 6/4/19 | RNAV (GPS) RWY 10, Orig-B.
18-Jul-19 | GA | Cedartown | Polk County Airport-Cornelius Moore Field | 9/5434 | 6/4/19 | RNAV (GPS) RWY 28, Orig-B.
18-Jul-19 | GA | Griffin | Griffin-Spalding County | 9/5445 | 6/5/19 | RNAV (GPS) RWY 14, Orig-E.
18-Jul-19 | GA | Griffin | Griffin-Spalding County | 9/5446 | 6/5/19 | RNAV (GPS) RWY 32, Orig-B.
18-Jul-19 | LA | Oakdale | Allen Parish | 9/6048 | 6/6/19 | RNAV (GPS) RWY 18, Orig.
18-Jul-19 | CO | Colorado Springs | City Of Colorado Springs Muni | 9/6091 | 6/3/19 | ILS OR LOC RWY 17L, Amdt 3A.
18-Jul-19 | WA | Ephrata | Ephrata Muni | 9/6098 | 6/3/19 | RNAV (GPS) RWY 3, Orig-A.
18-Jul-19 | WA | Ellensburg | Bowers Field | 9/6100 | 6/3/19 | RNAV (GPS) RWY 29, Amdt 1.
18-Jul-19 | LA | Vivian | Vivian | 9/6492 | 6/3/19 | RNAV (GPS) RWY 9, Orig-B.
18-Jul-19 | LA | Vivian | Vivian | 9/6493 | 6/3/19 | RNAV (GPS) RWY 27, Orig-B.
18-Jul-19 | FL | Daytona Beach | Daytona Beach Intl | 9/6546 | 6/4/19 | RNAV (GPS) RWY 25L, Amdt 1B.
18-Jul-19 | FL | Daytona Beach | Daytona Beach Intl | 9/6547 | 6/4/19 | RNAV (GPS) RWY 34, Amdt 2D.
18-Jul-19 | FL | Naples | Naples Muni | 9/6964 | 6/4/19 | RNAV (GPS) RWY 23, Amdt 1.
18-Jul-19 | FL | Daytona Beach | Daytona Beach Intl | 9/6972 | 6/4/19 | RNAV (GPS) RWY 7R, Orig-E.
18-Jul-19 | IL | Lincoln | Logan County | 9/7027 | 6/6/19 | RNAV (GPS) RWY 3, Orig-A.
18-Jul-19 | IL | Lincoln | Logan County | 9/7028 | 6/6/19 | RNAV (GPS) RWY 21, Orig-A.
18-Jul-19 | FL | Deland | Deland Muni-Sidney H Taylor Field | 9/7033 | 6/4/19 | RNAV (GPS) RWY 5, Orig-B.
18-Jul-19 | FL | Deland | Deland Muni-Sidney H Taylor Field | 9/7034 | 6/4/19 | RNAV (GPS) RWY 12, Orig-A.
18-Jul-19 | FL | Deland | Deland Muni-Sidney H Taylor Field | 9/7035 | 6/4/19 | RNAV (GPS) RWY 23, Orig-A.
18-Jul-19 | FL | Deland | Deland Muni-Sidney H Taylor Field | 9/7036 | 6/4/19 | RNAV (GPS) RWY 30, Orig-A.
18-Jul-19 | KY | Glasgow | Glasgow Muni | 9/7895 | 6/4/19 | RNAV (GPS) RWY 8, Amdt 2A.
18-Jul-19 | AR | Mc Gehee | Mc Gehee Muni | 9/8145 | 6/4/19 | RNAV (GPS) RWY 18, Orig-A.
18-Jul-19 | ME | Lincoln | Lincoln Rgnl | 9/8146 | 6/4/19 | RNAV (GPS) RWY 17, Orig-B.

[FR Doc. 2019-14133 Filed 7-3-19; 8:45 am]

BILLING CODE 4910-13-P